DEPARTMENT OF HOMELAND SECURITY

Coast Guard

33 CFR Part 167

[USCG-2005-20102]

Port Access Routes: Approaches to Portland, ME and Casco Bay

AGENCY: Coast Guard, DHS.

ACTION: Notice of study; request for comments

SUMMARY: The Coast Guard is conducting a Port Access Route Study (PARS) to evaluate the continued applicability of and the need for modifications to current vessel routing measures in the approaches to Portland, Maine and Casco Bay. The goal of the study is to help reduce the risk of marine casualties and increase the efficiency of vessel traffic management in the study area. The recommendations of the study may lead to future rulemaking action or appropriate international agreements.

DATES: Comments and related material must reach the Docket Management Facility on or before April 11, 2005.

ADDRESSES: You may submit comments identified by Coast Guard docket number USCG-2005-20102 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

FOR FURTHER INFORMATION CONTACT: If you have questions on this notice of study, call John J. Mauro, Project Officer, First Coast Guard District, telephone 617-223-8355, or send e-mail to jmauro@d1.uscg.mil; or George Detweiler, Office of Vessel Traffic Management, Coast Guard, telephone 202-267-0574, or send e-mail to Gdetweiler@comdt.uscg.mil. If you have questions on viewing or submitting material to the docket, call Renee K. Wright, Program Manager, Docket Operations, telephone 202-366-0271.

SUPPLEMENTARY INFORMATION:

Public Participation and Request for Comments

We encourage you to participate in this study by submitting comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice of study (USCG-2005-20102), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing comments and documents: To view comments, as well as documents mentioned in this preamble as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Definitions

The following definitions are from the International Maritime Organization's (IMO's) publication “Ships' Routeing” (except those marked by an asterisk) and should help you review this notice:

Area to be avoided or (ATBA) means a routing measure comprising an area within defined limits in which either navigation is particularly hazardous or it is exceptionally important to avoid casualties and which should be avoided by all vessels, or certain classes of vessels.

Deep-water route means a route within defined limits, which has been accurately surveyed for clearance of sea bottom and submerged obstacles as indicated on nautical charts.

Inshore traffic zone means a routing measure comprising a designated area between the landward boundary of a traffic separation scheme and the adjacent coast, to be used in accordance with the provisions of Rule 10(d), as amended, of the International Regulations for Preventing Collisions at Sea, 1972 (COLREGS).

Precautionary area means a routing measure comprising an area within defined limits where vessels must navigate with particular caution and within which the direction of traffic flow may be recommended.

Recommended route means a route of undefined width, for the convenience of vessels in transit, which is often marked by centerline buoys.

Recommended track is a route which has been specially examined to ensure so far as possible that it is free of dangers and along which vessels are advised to navigate.

Regulated Navigation Area (RNA)* means a water area within a defined boundary for which regulations for vessels navigating within the area have been established under 33 CFR part 165.

Roundabout means a routing measure comprising a separation point or circular separation zone and a circular traffic lane within defined limits. Traffic within the roundabout is separated by moving in a counterclockwise direction around the separation point or zone.

Separation Zone or Separation line means a zone or line separating the traffic lanes in which vessels are proceeding in opposite or nearly opposite directions; or from the adjacent sea area; or separating traffic lanes designated for particular classes of vessels proceeding in the same direction.

Traffic lane means an area within defined limits in which one-way traffic is established. Natural obstacles, including those forming separation zones, may constitute a boundary.

Traffic Separation Scheme (TSS) means a routing measure aimed at the separation of opposing streams of traffic by appropriate means and by the establishment of traffic lanes.

Two-way route means a route within defined limits inside which two-way traffic is established, aimed at providing safe passage of ships through waters where navigation is difficult or dangerous.

Vessel routing system means any system of one or more routes or routing measures aimed at reducing the risk of casualties; it includes traffic separation schemes, two-way routes, recommended tracks, areas to be avoided, inshore traffic zones, roundabouts, precautionary areas, and deep-water routes.

Background and Purpose

Why are port access route studies required? Under the Ports and Waterways Safety Act (PWSA) (33 U.S.C. 1223(c)), the Commandant of the Coast Guard may designate necessary fairways and traffic separation schemes (TSSs) to provide safe access routes for vessels proceeding to and from U.S. ports. The designation of fairways and TSSs recognizes the paramount right of navigation over all other uses in the designated areas.

The PWSA requires the Coast Guard to conduct a study of port access routes before establishing or adjusting fairways or TSSs. Through the study process, we must coordinate with Federal, State, and foreign state agencies (as appropriate) and consider the views of maritime community representatives, environmental groups, and other interested stakeholders. A primary purpose of this coordination is, to the extent practicable, to reconcile the need for safe access routes with other reasonable waterway uses.

Were there previous port access route studies? The area (known as Area 2 of the original PARS) which included the ports of Searsport, Bucksport, Portland, Maine, and Portsmouth, New Hampshire was last studied in 1979, and the final results of the study were published in the Federal Register on January 7, 1982 (47 FR 879). The study of Area 2 concluded that the existing TSS in the approaches to Portland, Maine is adequate for the traditional trade routes and amount of traffic to and from the Port of Portland, Maine.

Why is a new port access route study necessary? Portland Harbor is one of three deepwater ports in Maine, which are the nearest commercial ports in the United States to Europe; principal commerce items imported to the port include crude oil, refined petroleum products, chemicals, kaolin, and paper. Exported items from the port include wood pulp, lumber, scrap metal, and containerized goods, plus coastal receipts and reshipment of petroleum products, and internal receipts of fresh fish. About 65 percent of the tonnage is crude oil, which is transported by pipelines to refineries in Montreal, Quebec.

The report by the U.S. Army Corps of Engineers' (ACOE) “Waterborne Commerce of the United States” states that, from 1998 to 2002, annual trips to and from the Port of Portland, ME increased 7 percent from 34,571 to 37,233. Since 1982 the Corps of Engineers has maintained a navigation project for Portland Harbor. This project maintains: (1) An entrance channel 1,000 feet wide and 45 feet deep, which extends about 9,000 feet from deep water in Casco Bay opposite South Portland to a line about 2,000 feet seaward of the entrance to the Fore River, and allows vessels to call on the deepwater oil-receiving terminals at South Portland; (2) a maneuvering basin and anchorage area 45 feet deep, northwest of House Island and northeast of the head of the entrance channel; and (3) a channel depth of 40 feet in Soldier Ledge Channel in Hussey Sound, a passage between Peaks and Long Islands, which are part of a group of small, inhabited islands near the center of Casco Bay.

In response to a request by a local, commercial pipeline corporation, the ACOE is considering approving private maintenance dredging of part of its navigation project in Portland Harbor. If granted, this approval will allow the entrance channel to Portland Pipe Line Pier 2 and the western limits of Anchorage “B” to be deepened to a depth of 50 feet. This depth is five feet deeper than the Corp's congressionally authorized, project depth of 45 feet. If this project is approved and completed, vessel traffic to and from this port is expected to increase.

What are the timeline, study area, and process of this PARS? The First Coast Guard District will conduct this PARS. The study will begin immediately and should take 6 to 12 months to complete.

The study area will encompass the approaches to Portland, Maine and the waters of Portland Harbor and Casco Bay.

As part of this study, we will consider previous studies, analyses of vessel traffic density, and agency and stakeholder experience in vessel traffic management, navigation, ship handling, and affects of weather. We encourage you to participate in the study process by submitting comments in response to this notice.

We will publish the results of the PARS in the Federal Register. It is possible that the study may validate existing vessel routing measures and conclude that no changes are necessary. It is also possible that the study may recommend one or more changes to enhance navigational safety and the efficiency of vessel traffic management. The recommendations may lead to future rulemakings or appropriate international agreements.

Possible Scope of the Recommendations

We are attempting to determine the scope of any safety problems associated with vessel transits in the study area. We expect that information gathered during the study will identify any problems and appropriate solutions. The study may recommend that we—

1. Maintain the current vessel routing measures;

2. Establish recommended routes or two-way routes in the approaches to Broad Sound;

3. Establish recommended routes or two-way routes in the approaches to Hussey Sound;

4. Establish recommended routes or two-way routes in the approach to Portland Harbor;

5. Establish recommended routes or two-way routes in the precautionary area in the approaches to Portland which would formalize routes historically used by tug and barge traffic, merchant vessels, and fishing vessels transiting the precautionary area;

6. Modify the precautionary area in the approaches to Portland;

7. Create one or more inshore traffic zones near either the recommended routes or approaches;

8. Establish an area to be avoided (ATBA) in shallow areas where the risk of grounding is present;

9. Establish, disestablish or modify anchorage grounds; and

10. Establish a Regulated Navigation Area (RNA) with specific vessel operating requirements to ensure safe navigation near shallow water.

Questions

To help us conduct the port access route study, we request comments on the following questions, although comments on other issues addressed in this document are also welcome. In responding to a question, please explain your reasons for each answer and follow the instructions under “Public Participation and Request for Comments” above.

1. What navigational hazards do vessels operating in the study area face? Please describe.

2. Are there strains on the current vessel routing system, such as increasing traffic density? If so, please describe.

3. Are modifications to existing vessel routing measures needed to address hazards and strains and to improve traffic management efficiency in the study area? If so, please describe.

4. What costs and benefits are associated with the potential study recommendations listed above? What measures do you think are most cost-effective? What impacts, both positive and negative, would changes to existing routing measures or new routing measures have on the study area?

Dated: February 2, 2005.
Howard L. Hime,
Acting Director of Standards, Marine Safety, Security and Environmental Protection.

[FR Doc. 05-2559 Filed 2-9-05; 8:45 am]

BILLING CODE 4910-15-P